DEPARTMENT OF THE INTERIOR

Bureau of Land Management

[LLWYR01000 L54400000.EQ0000; LVCLK09K0760]

Notice of Availability of the Final Environmental Impact Statement for the Westside Land Conveyance Project, Washakie and Big Horn Counties, WY

AGENCY: Bureau of Land Management, Interior.

ACTION: Notice of availability.

SUMMARY: In accordance with the National Environmental Policy Act (NEPA) of 1969, as amended, and the Federal Land Policy and Management Act of 1976, as amended, the Bureau of Land Management (BLM) has prepared a Final Environmental Impact Statement (FEIS) for the Westside Land Conveyance Project and by this notice is announcing its availability.

DATES: The BLM will not issue a final decision on the proposal for a minimum of 30 days after the date that the Environmental Protection Agency publishes this notice in the Federal Register.

ADDRESSES: Copies of the Westside Land Conveyance Project Environmental Impact Statement (EIS) are available for public inspection at the Bureau of Land Management, Wyoming State Office, 5353 Yellowstone Road, Cheyenne, Wyoming 82009, and Bureau of Land Management, Worland Field Office, 101 S. 23rd, Worland, Wyoming 82401. Interested persons may also review the FEIS on the Internet at http://www.blm.gov/wy/st/en/info/NEPA/wfodocs/westside.html.

FOR FURTHER INFORMATION CONTACT: Andrew Tkach, Planning and Environmental Coordinator, telephone: (307) 347-5251; address: Bureau of Land Management, Worland Field Office, 101 S. 23rd, Worland, Wyoming 82401; e-mail: Andrew_Tkach@blm.gov.

SUPPLEMENTARY INFORMATION: The FEIS analyzes the environmental consequences of a legislated land conveyance to the Westside Irrigation District (WID), Worland, Wyoming. Public Law 106-485 (Nov. 9, 2000; 114 Stat. 2199) directs the Secretary of the Interior, acting through the BLM, to convey to WID all right, title and interest, excluding mineral interest, in certain Federal land in Washakie and Big Horn Counties, Wyoming, upon completion of an environmental analysis under the NEPA and mitigation of identified adverse effects of the land transfer. The project area comprises approximately 16,500 acres, in Townships 48 N. and 49 N.; Ranges 92 W., 92½; W., and 93 W. The southern end of the project area is located approximately 5 miles northwest of Worland, Wyoming. The law specifies that acreage may be added to or subtracted from the project area to satisfy mitigation as required in the FEIS and its Record of Decision (ROD).

The FEIS analyzes and discloses environmental consequences of four alternatives:

• The No Action Alternative—analyzed for a baseline comparison although it is not an option under public law.

• Alternative 1—the legislated proposed action conveying approximately 16,500 acres.

• Alternative 2—under which only lands suitable for irrigation and needed for infrastructure would be conveyed; approximately 11,500 acres.

• Alternative 3—under which only lands suitable for irrigation and needed for infrastructure, and which exclude certain known eligible cultural sites, would be conveyed; approximately 9,740 acres. This alternative would also widen a wildlife migration corridor to the Bighorn River and reduce impacts to winter habitat.

Alternative 3 is the BLM's preferred alternative.

The law places no restrictions on the eventual uses or disposal of the land, and the BLM would exercise no regulatory control after the transfer. The WID has stated it will offer the land for sale for agricultural purposes.

The law further specifies that proceeds from the conveyance shall be deposited in a special account in the Treasury of the United States and shall be available to the Secretary of the Interior, without a further act of appropriation, for the acquisition of land, and interests in land, in the Worland District (now Worland Field Office), in Wyoming, such that the acquired lands will benefit public recreation, public access, fish and wildlife habitat, or cultural resources.

On February 22, 2005, the BLM published in the Federal Register a Notice of Intent to prepare an EIS under the NEPA. On January 11, 2008, the BLM published in the Federal Register a Notice of Availability (NOA) of the Draft EIS (DEIS) for the Westside Land Conveyance Project.

The State of Wyoming Water Development Commission (WWDC) is a co-lead agency as provided in 40 Code of Federal Regulations 1500-1580. The WWDC will use the FEIS and ROD in support of subsequent funding decisions should the irrigation district apply for water supply development assistance. Cooperating agencies in the preparation of the FEIS include Washakie and Big Horn Counties.

A ROD will be prepared after the close of the 30-day review period for the FEIS. Comments on the DEIS received from the public and internal BLM review were considered and incorporated as appropriate into the FEIS.

Authority: 40 CFR 1506.6 and 1506.10.

Donald A. Simpson,
State Director.

[FR Doc. 2011-3005 Filed 2-10-11; 8:45 am]

BILLING CODE 4310-22-P